DEPARTMENT OF COMMERCE

International Trade Administration

Notice of Solicitation of Applications for Allocation of a Tariff Rate Quota on the Import of Certain Worsted Wool Fabrics

June 14, 2005.

AGENCY: Department of Commerce, International Trade Administration.

ACTION: The Department of Commerce (Department) is soliciting applications for an allocation of the 2005 tariff rate quota on certain worsted wool fabric.

SUMMARY: The Department hereby solicits applications from persons (including firms, corporations, or other legal entities) who weave worsted wool fabrics in the United States for an allocation of the 2005 tariff rate quotas on certain worsted wool fabric. Interested persons must submit an application on the form provided to the address listed below by July 18, 2005. The Department will cause to be published in the Federal Register its determination to allocate the 2005 tariff rate quotas and will notify applicants of their respective allocation as soon as possible after that date. Promptly thereafter, the Department will issue licenses to eligible applicants.

DATES: To be considered, applications must be received or postmarked by 5 p.m. on July 18, 2005.

ADDRESSES: Applications must be submitted to the Industry Assessment Division, Office of Textiles, Apparel and Consumer Goods Industries, Room 3001, United States Department of Commerce, Washington, D.C. 20230 (telephone: (202) 482-4058). Application forms may be obtained from that office (via facsimile or mail) or from the following Internet address: http://web.ita.doc.gov/tacgi/wooltrq.nsf/TRQApp/fabric.

FOR FURTHER INFORMATION CONTACT: Sergio Botero, Office of Textiles and Apparel, U.S. Department of Commerce, (202) 482-4058.

SUPPLEMENTARY INFORMATION:

Background

Title V of the Trade and Development Act of 2000 (the Act) created two tariff rate quotas (TRQs), providing for temporary reductions in the import duties on limited quantities of two categories of worsted wool fabrics suitable for use in making suits, suit-type jackets, or trousers: (1) for worsted wool fabric with average fiber diameters greater than 18.5 microns (Harmonized Tariff Schedule of the United States (HTS) heading 9902.51.11); and (2) for worsted wool fabric with average fiber diameters of 18.5 microns or less (HTS heading 9902.51.12). On August 6, 2002, President Bush signed into law the Trade Act of 2002, which includes several amendments to Title V of the Act. On December 3, 2004, the Act was further amended pursuant to the Miscellaneous Trade Act of 2004, Public Law 108-429. The 2004 amendment includes authority for the Department to allocate a TRQ for new HTS category, HTS 9902.51.16. This HTS category refers to worsted wool fabric with average fiber diameter of 18.5 microns or less. The amendment further provides that HTS 9902.51.16 is for the benefit of persons (including firms, corporations, or other legal entities) who weave such worsted wool fabric in the United States that is suitable for making men's and boys' suits. The TRQ for HTS 9902.51.16 will provide for temporary reductions in the import duties on 2,000,000 square meters annually for 2005 and 2006.

The amendment requires that the TRQ be allocated to persons who weave worsted wool fabric with average fiber diameter of 18.5 microns or less, which is suitable for use in making men's and boys' suits, in the United States. On May 16, 2005, the Department published regulations establishing procedures for allocating the TRQ. 70 FR 25774, 15 CFR part 335. In order to be eligible for an allocation, an applicant must submit an application on the form provided at http://web.ita.doc.gov/tacgi/wooltrq.nsf/TRQApp/fabric to the address listed above by 5 p.m. on July 18, 2005, in compliance with the requirements of 15 CFR 335. Any business confidential information that is marked business confidential will be kept confidential and protected from disclosure to the full extent permitted by law.

Dated: June 14, 2005.
James C. Leonard III,
Deputy Assistant Secretary for Textiles and Apparel.

[FR Doc. E5-3141 Filed 6-16-05; 8:45 am]

BILLING CODE 3510-DS-S